DEPARTMENT OF THE INTERIOR

Bureau of Land Management

[CA-939-04-1610-00]

Correction to Notice of Availability of the California Coastal National Monument Draft Resource Management Plan and Draft Environmental Impact Statement

AGENCY: Bureau of Land Management, Interior.

ACTION: Notice of correction.

SUMMARY: This notice is a correction to a Notice of Availability of the California Coastal National Monument Draft Resource Management Plan which was originally published in the Federal Register on September 17, 2004 (69 FR 56077-56078). The Federal Register Notice has an incorrect reference to the California Coastal National Monument (CCNM) website address in the final sentence of the Notice. The correct website address for the CCNM is: http://www.ca.blm.gov/pa/coastal_monument/.

FOR FURTHER INFORMATION CONTACT: Rick Hanks, California Coastal National Monument, 299 Foam Street, Monterey CA 93940 or telephone (831) 372-6115 or e-mail at cacnm@ca.blm.gov.

Dated: September 22, 2004.
J. Anthony Danna,
Deputy State Director, Natural Resources.

[FR Doc. 04-21916 Filed 9-29-04; 8:45 am]

BILLING CODE 4310-40-P